DEPARTMENT OF AGRICULTURE

Animal and Plant Health Inspection Service

9 CFR Part 52

[Docket No. 98-123-7]

RIN 0579-AB10

Pseudorabies in Swine; Payment of Indemnity

AGENCY: Animal and Plant Health Inspection Service, USDA.

ACTION: Affirmation of interim rules as final rule.

SUMMARY: We are adopting as a final rule, without change, two interim rules that amended the animal health regulations. The first interim rule established regulations to provide for the payment of indemnity for the voluntary depopulation of herds of swine known to be infected with pseudorabies, and the second interim rule amended the regulations to provide that the indemnity payment will be equal to the difference between the net salvage received and the fair market value of the swine destroyed. The second interim rule also provided for the payment of indemnity for breeding sows destroyed because of pseudorabies. The interim rules allowed for the payment of indemnity from accelerated pseudorabies eradication program funds for swine destroyed because of pseudorabies and were necessary to further pseudorabies eradication efforts and to protect swine not infected with pseudorabies from the disease.

DATES: The interim rules became effective January 12, 1999, and April 12, 2000.

FOR FURTHER INFORMATION CONTACT: Dr. Adam Grow, Senior Staff Veterinarian, Swine Health and Disease Programs, Eradication and Surveillance Team, National Center for Animal Health Programs, VS, APHIS, 4700 River Road Unit 43, Riverdale, MD 20737-1231; (301) 734-3752.

SUPPLEMENTARY INFORMATION:

Background

In an interim rule effective January 12, 1999, and published in the Federal Register on January 15, 1999 (64 FR 2545-2550, Docket No. 98-123-2), we established regulations in 9 CFR part 52 to provide for the payment of indemnity by the Animal and Plant Health Inspection Service (APHIS) for the voluntary depopulation of herds of swine known to be infected with pseudorabies. That interim rule, which was intended to encourage the depopulation of infected herds, was necessary to accelerate pseudorabies eradication efforts and to protect swine not infected with pseudorabies from the disease.

We solicited comments concerning the interim rule for 60 days ending March 16, 1999. In a technical amendment published on March 17, 1999 (64 FR 13064-13065, Docket No. 98-123-3), we extended that comment period by an additional 30 days. We received two comments by the April 16, 1999, close of the extended comment period. They were from a trade organization and a U.S. veterinary medical association. The comments are discussed below.

One commenter requested that APHIS consider amending the regulations to require that premises depopulated of swine because of pseudorabies not be restocked for at least 30 days following cleaning and disinfecting, or until an appropriate length of time has passed as determined by a pseudorabies epidemiologist.

In response to that comment, we published the March 17, 1999, technical amendment mentioned above to clarify the provisions contained in the interim rule regarding the waiting period that must be observed before restocking premises depopulated because of pseudorabies. In that technical amendment, we amended the regulations in part 52 to provide that premises that have been depopulated because of pseudorabies may be restocked with swine 30 days following an approved cleaning and disinfection, unless an official pseudorabies epidemiologist determines that a shorter or longer period of time is adequate or necessary to protect new animals against infection. Because the March 1999 technical amendment addressed the commenter's concern, no further response to that comment is necessary in this document.

Both commenters raised concerns that fell outside of the scope of the January 1999 interim rule. One commenter recommended that APHIS increase surveillance to ensure detection of infected animals and requested that APHIS make available Federal funding for vaccines when State funding proves inadequate. The second commenter urged APHIS to increase the speed at which herds will be depopulated by developing staging areas at slaughter facilities that operate overnight and suggested that APHIS develop a weekly reporting system for herds that have been depopulated so that the disease status of depopulated premises is made available to producers and veterinarians. This commenter further recommended that APHIS develop a final pseudorabies eradication program and encouraged APHIS to establish and fund a pseudorabies acute outbreak team that would be responsible for containing an outbreak and developing a clean-up program.

The January 1999 interim rule established regulations to provide for the payment of indemnity by APHIS for the voluntary depopulation of herds of swine known to be infected with pseudorabies. Issues related to disease surveillance, vaccine program funding, slaughterhouse operations, reporting systems for herd depopulation, and future and final stage pseudorabies eradication efforts fall outside the scope of that rulemaking. Therefore, we are not making any changes to the rule based on these comments.

Finally, one commenter expressed support for APHIS' payment of indemnity to producers for the voluntary depopulation of herds infected with pseudorabies and requested the continued availability of Federal funding for the pseudorabies indemnity program beyond the 6-month timeframe announced in the interim rule.

In a notice published in the Federal Register on November 17, 1999 (64 FR 62569-62570, Docket No. 98-123-5), we announced that additional funds had been allocated for the indemnity program and that the program would continue until funds are depleted or until further notice. In that notice, we acknowledged that some States were still conducting their eradication programs and that we considered it important to the pseudorabies eradication effort in the United States to continue the accelerated eradication program beyond the 6-month timeframe stated in the January 1999 interim rule.

In a subsequent interim rule published on April 18, 2000 (65 FR 20706-20712, Docket No. 98-123-6), we revised the method by which owners of swine will receive fair market value for their animals under the accelerated pseudorabies eradication program in order to extend the funds available to APHIS for the program before these funds are exhausted. That April 2000 interim rule amended the regulations in part 52 to provide that APHIS will pay owners either the fair market value of herds of swine depopulated, or the difference between the net salvage value received for herds of swine disposed of through slaughter and the fair market value of those animals. The April 2000 interim rule also allowed owners of breeding sows identified as being infected with pseudorabies to receive indemnity if those sows are sent directly to slaughter, even if the remainder of the herd the sow is part of is not depopulated. These amendments were intended to allow for the payment of indemnity from accelerated pseudorabies eradication program funds for a greater number of swine disposed of because they are infected with pseudorabies.

We solicited comments concerning the April 2000 interim rule for 60 days ending June 19, 2000. We did not receive any comments on that interim rule.

Therefore, for the reasons given in the interim rules and in this document, we are adopting the interim rules as a final rule without change.

This action also affirms the information contained in the interim rules concerning Executive Order 12866 and the Regulatory Flexibility Act, and Executive Order 12988.

Further, this action has been determined to be not significant for the purposes of Executive Order 12866 and, therefore, has not been reviewed by the Office of Management and Budget.

Executive Order 12372

This program/activity is listed in the Catalog of Federal Domestic Assistance under No. 10.025 and is subject to Executive Order 12372, which requires intergovernmental consultation with State and local officials. (See 7 CFR part 3015, subpart V.)

Paperwork Reduction Act

In accordance with the Paperwork Reduction Act of 1995, (44 U.S.C. 3501 et seq.), the information collection and recordkeeping requirements in the interim rules have been approved by the Office of Management and Budget (OMB). The assigned OMB control number is 0579-0137.

List of Subjects in 9 CFR Part 52

Animal diseases, Indemnity Payments, Pseudorabies, Swine, Transportation.

PART 52—SWINE DESTROYED BECAUSE OF PSEUDORABIES

Accordingly, we are adopting as a final rule, without change, the interim rule establishing 9 CFR part 52 that was published at 64 FR 2545-2550 on January 15, 1999, as amended by the technical amendment published at 64 FR 13064-13065 on March 17, 1999, and by the interim rule published at 65 FR 20706-20712 on April 18, 2000.

Done in Washington, DC, this 5th day of October 2004 .
Elizabeth E. Gaston,
Acting Administrator, Animal and Plant Health Inspection Service.

[FR Doc. 04-22789 Filed 10-8-04; 8:45 am]

BILLING CODE 3410-34-U